ENVIRONMENTAL PROTECTION AGENCY

[EPA-HQ-OPP-2016-0577; FRL-9953-55]

Notice of Receipt of Requests to Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel their registrations and to amend product registrations to terminate uses.

EPA intends to grant these requests at the close of the comment period for this announcement unless the Agency receives substantive comments within the comment period that would merit its further review of the requests, or unless the registrants withdraw its requests. If these requests are granted, any sale, distribution, or use of products listed in this notice will be permitted after the registrations have been cancelled and uses terminated only if such sale, distribution, or use is consistent with the terms as described in the final order.

DATES: Comments must be received on or before December 19, 2016.

ADDRESSES: Submit your comments, identified by docket identification (ID) number EPA-HQ-OPP-2016-0577, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Christopher Green, Information Technology and Resources Management Division (7502P), Office of Pesticide Programs, Environmental Protection Agency, 1200 Pennsylvania Ave. NW., Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This notice announces receipt by EPA of requests from registrants to cancel certain pesticide products and amend product registrations to terminate certain uses. The affected products and the registrants making the requests are identified in Tables 1-3 of this unit.

Unless a request is withdrawn by the registrant or if the Agency determines that there are substantive comments that warrant further review of this request, EPA intends to issue an order in the Federal Register canceling and amending the affected registrations.

Table 1—Product Registrations With Pending Requests for Cancellation
Registration No. | Company No. | Product name | Active ingredient
100-951 | 100 | Hurricane | Metalaxyl-M & Fludioxonil.
100-1051 | 100 | Talon-G Rodenticide Bait Pack Pellets with Bitrex | Brodifacoum.
100-1052 | 100 | Talon-G Rodenticide Pellets with Bitrex | Brodifacoum.
100-1057 | 100 | Talon-G Rodenticide Mini-Pellets with Bitrex | Brodifacoum.
100-1064 | 100 | Diquat Weed Killer 'D' | Diquat dibromide.
100-1095 | 100 | Lambda-Cyhalothrin TC Insecticide | Lambda-Cyhalothrin.
100-1114 | 100 | Rapid Kill #1 | Diquat dibromide.
100-1115 | 100 | Rapid Kill #1 Concentrate | Diquat dibromide.
100-1143 | 100 | Touchdown Ready-To-Use Herbicide | Glyphosate.
100-1144 | 100 | Touchdown Home and Garden Concentrate | Glyphosate.
100-1170 | 100 | Optigard ZT Insecticide | Thiamethoxam.
100-1180 | 100 | Touchdown Diquat Home and Garden Ready To Use | Diquat dibromide & Glyphosate.
100-1209 | 100 | Abamectin Granular Fire Ant Killer | Abamectin.
100-1302 | 100 | Cypermethrin ME 2.0% Concentrate | Cypermethrin.
100-1303 | 100 | Cypermethrin ME 0.2% RTU | Cypermethrin.
100-1329 | 100 | Glyphosate Diquat Prodiamine EW RTU | Glyphosate, Diquat dibromide & Prodiamine.
100-1331 | 100 | Prodiamine/Diquat/Glyphosate EW Concentrate | Diquat dibromide, Prodiamine & Glyphosate.
100-1332 | 100 | Prodiamine/Diquat/Glyphosate EW Manufacturing use Concentrate | Diquat dibromide, Glyphosate & Prodiamine.
100-1355 | 100 | Departure Herbicide | Glyphosate.
100-1393 | 100 | Hurricane WDG | Fludioxonil & Metalaxyl-M.
100-1403 | 100 | Glyphosate 500 | Glyphosate.
100-1429 | 100 | Foxfire Herbicide | Pinoxaden & Fenoxaprop-p-ethyl.
228-679 | 228 | ETI 107 02 G | Paclobutrazol.
228-680 | 228 | ETI 107 01 G | Paclobutrazol.
279-3195 | 279 | Authority First Herbicide | Sulfentrazone.
279-3231 | 279 | Gauntlet | Sulfentrazone & Cloransulam-methyl.
279-3247 | 279 | Gauntlet 70 WP Herbicide | Sulfentrazone & Cloransulam-methyl.
352-713 | 352 | DuPont Sulfentrazone XP Herbicide | Sulfentrazone.
499-497 | 499 | Whitmire Micro-Gen TC 232 | D-Limonene.
499-508 | 499 | TC 246 | Imazalil.
499-519 | 499 | TC 232 W&H | D-Limonene.
2724-819 | 2724 | Pyrocide Pressurized Ant & Roach Spray 70451 | Propoxur, Pyrethrins, Piperonyl butoxide & MGK 264.
2792-45 | 2792 | No Scald DPA EC-283 | Diphenylamine (Not selected for InertFinder).
5905-583 | 5905 | HM-0739 | 2,4-D, diethanolamine salt, Benzoic acid, 3,6-dichloro-2-methoxy-, compd with 2,2′-iminobis(ethanol) (1:1) & 3-Quinolinecarboxylic acid, 2-(4,5-dihydro-4-methyl-4-(1-methylethyl)-5-oxo-1H-imidazol-2-yl)-, monoammonium salt.
7969-341 | 7969 | Cando Limonene Wasp & Hornet Jet Spray | D-Limonene.
7969-344 | 7969 | Cando Limonene Indoor/Outdoor Multi-Insect Spray | D-Limonene.
9688-307 | 9688 | TAT Total Release Water Based Fogger | MGK 264, Tetramethrin & Esfenvalerate.
35935-101 | 35935 | Azoxystrobin Technical | Azoxystrobin.
59639-80 | 59639 | Valent Bolero 10 G (Herbicide) | Thiobencarb.
61282-01 | 61282 | Technical Diphacinone | Diphacinone.
61282-03 | 61282 | Zinc Phosphide 93 | Zinc phosphide (Zn3P2).
61282-20 | 61282 | Zinc Phosphide Corn Bait | Zinc phosphide (Zn3P2).
61842-20 | 61842 | Layby Pro Herbicide | Diuron & Linuron.
61842-21 | 61842 | Linex 4L Herbicide | Linuron.
61842-22 | 61842 | Linuron Technical | Linuron.
61842-23 | 61842 | Lorox DF | Linuron.
61842-24 | 61842 | Linuron Flake Technical | Linuron.
61842-32 | 61842 | Linuron Technical | Linuron.
66222-32 | 66222 | Captan Technical | Captan.
66330-260 | 66330 | Flomet 4L | Fluometuron.
67760-43 | 67760 | Cheminova Methyl Parathion 4 EC | Methyl parathion.
70506-180 | 70506 | Accelerate a Harvest Aid for Cotton | Endothall, mono(N,N,-dimethyl alkyl amine) salt.
70506-190 | 70506 | Desicate II | Endothall, mono(N,N,-dimethyl alkyl amine) salt.
70506-296 | 70506 | Thinrite Blossom Thinner | Endothal-dipotassium.
70506-297 | 70506 | UPI Captan Technical | Captan.
82437-1 | 82437 | K & W Agrochemicals 5-15-5 with Gro-Root Liquid (GRL) Root & Transplant Stimulator with 2 Hormones | 1-Naphthaleneacetic acid & Indole-3-butyric acid.
82437-3 | 82437 | Kingro RTU (Ready-to-use) | Cytokinin (as kinetin).
82437-4 | 82437 | Rootaid Gel | Indole-3-butyric acid.
82437-6 | 82437 | Prostim L | Indole-3-butyric acid & Cytokinin (as kinetin).
82437-8 | 82437 | Prostim II | Cytokinin (as kinetin) & Indole-3-butyric acid.
88342-1 | 88342 | Odor Rescue | Sodium chlorite.
89461-2 | 89461 | Shiner Concentrated Shock Granules | Trichloro-s-triazinetrione.
89461-3 | 89461 | Shiner Dichlor Shock Granules | Sodium dichloroisocyanurate dihydrate.
CO-010006 | 10163 | Hexygon WDG | Hexythiazox.
SC-140001 | 59639 | V-10233 Herbicide | Flumioxazin & Pyroxasulfone.
WA-060021 | 10163 | Onager 1E | Hexythiazox.

Table 2—Product Registrations With Pending Requests for Amendment
Registration No. | Company No. | Product name | Active ingredient | Uses to be terminated
100-1093 | 100 | Heritage Fungicide | Azoxystrobin | Artichoke, Globe, Bananas, Plantains (post-harvest uses only), Barley, Canola, Carrots, Corn, Cotton, Cranberry, Grasses (grown for seed), Legume vegetables, dry and succulent, Oilseed crops, Peanuts, Potatoes, Rice, Soybean, Tobacco, Vegetable, leaves of root and tubers, Vegetable, root subgroup, Vegetable, tuberous and corm subgroup, Watercress, Wheat, Triticale & Indoor residual mold spray (use on carpet; wood and drywall; hard, non-porous surfaces).
100-1218 | 100 | Demon Max Insecticide | Cypermethrin | Remove the directions for use for material protection. Remove the section entitled, Treatment of Preconstruction Lumber and Logs.
264-736 | 264 | Bayleton Technical Fungicide | Triadimefon | Pineapple.
264-740 | 264 | Bayleton 50% Concentrate | Triadimefon | Pineapple.
2792-45 | 2792 | No Scald DPA EC-283 | Diphenylamine (Not selected for InertFinder) | Pear use.
6218-45 | 6218 | Pyrethrins Fogging Concentrate II | MGK 264, Piperonyl butoxide & Pyrethrins | Outdoor Use, all outdoor uses except building perimeters (spot treatments).
43410-33 | 43410 | Chem-Tek 100 | Thiabendazole | In or on paints, nylon carpeting & canvas textiles.
70506-179 | 70506 | Ziram Manufacturing Use Product | Ziram | Blackberries.
85678-8 | 85678 | Captan Technical | Captan | Turf Use.
85678-13 | 85678 | Captan 4L | Captan | Turf Use.
85678-14 | 85678 | Captan 80 WDG | Captan | Turf Use.
85678-28 | 85678 | Captan Technical II | Captan | Turf Use.
87290-61 | 87290 | Willowood Mesotrione 4SC | Mesotrione | Directions for use on soybeans.
87290-62 | 87290 | Willowood Mesotrione 480SC | Mesotrione | Directions for use on soybeans.

Table 3 of this unit includes the names and addresses of record for the registrants of the products listed in Table 1 and Table 2 of this unit, in sequence by EPA company number. This number corresponds to the first part of the EPA registration numbers of the products listed in Table 1 and Table 2 of this unit.

Table 3—Registrants Requesting Voluntary Cancellation and/or Amendments
EPA company No. | Company name and address
100 | Syngenta Crop Protection, LLC, 410 Swing Road, P.O. Box 18300, Greensboro, NC 27419-8300.
228 | NuFarm Americas, Inc., 4020 Aerial Center Pkwy., Ste. 101, Morrisville, NC 27560.
264 | Bayer CropScience, LP, 2 T.W. Alexander Drive, P.O. Box 12014, Research Triangle Park, NC 27709.
279 | FMC Corporation, 2929 Walnut Street, Philadelphia, PA 19104.
352 | E.I. Du Pont De Nemours and Company (S300/419), Attn: Manager, U.S. Registration, Dupont Crop Protection, Chestnut Run Plaza, 974 Centre Road, P.O. Box 2915, Wilmington, DE 19805.
499 | BASF Corporation, 26 Davis Drive, P.O. Box 13528, Research Triangle Park, NC 27709-3528.
2724 | Wellmark International, 1501 E. Woodfield Road, Suite 200 West, Schaumburg, IL 60173.
2792 | Decco US Post-Harvest, Inc., 1713 South California Avenue, Monrovia, CA 91016-0120.
5905 | Helena Chemical Company, Agent Name: Helena Products Group, 7664 Smythe Farm Road, Memphis, TN 38120.
6218 | Summit Chemical Co., 8322 Sharon Drive, Frederick, MD 21704.
7969 | BASF Corporation, 26 Davis Drive, P.O. Box 13528, Research Triangle Park, NC 27709-3528.
9688 | Chemsico, A Division of United Industries Corp., P.O. Box 142642, St. Louis, MO 63114-0642.
10163 | Gowan Company, P.O. Box 5569, Yuma, AZ 85366.
35935 | NuFarm Limited, Agent Name: NuFarm Americas, Inc., 4020 Aerial Center Pkwy., Ste. 103, Morrisville, NC 27560.
43410 | Agri-Chem Consulting, Inc., 27536 CR 561, Tavares, FL 32778.
59639 | Valent U.S.A. Corporation, 1600 Riviera Avenue, Suite 200, Walnut Creek, CA 94596.
61282 | Hacco, Inc., 110 Hopkins Drive, Randolph, WI 53956-1316.
61842 | Tessenderlo Kerley, Inc., Agent Name: Pyxis Regulatory Consulting, Inc., 4110 136th Street Ct NW., Gig Harbor, WA 98332.
66222 | Makhteshim Agan of North America, Inc., D/B/A Adama, 3120 Highwoods Blvd., Suite 100, Raleigh, NC 27604.
66330 | Arysta LifeScience North America, LLC, 15401 Weston Parkway, Suite 150, Cary, NC 27513.
67760 | Cheminova, Inc., 1600 Wilson Blvd., Suite 700, Arlington, VA 22209.
70506 | United Phosphorus, Inc., Agent Name: Pyxis Regulatory Consulting, Inc., 4110 136th Street Ct NW., Gig Harbor, WA 98332.
82437 | K & W Agrichemicals, Inc., Agent Name: Wagner Regulatory Associates, Inc., P.O. Box 640, Hockessin, DE 19707-0640.
85678 | Redeagle International, LLC, Agent Name: Wagner Regulatory Associates, Inc., P.O. Box 640, Hockessin, DE 19707.
87290 | Willowood, LLC, Agent Name: Wagner Regulatory Associates, Inc., P.O. Box 640, Hockessin, DE 19707-0640.
88342 | CLO2 Systems, 3427 Pearl Road, Medina, OH 44256.
89461 | Global Chem Tech, LLC, 34 Lake Havasu Avenue N.—14-204, Lake Havasu City, AZ 86403.

III. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants listed in Table 3 of Unit II have requested that EPA waive the 180-day comment period. Accordingly, EPA will provide a 30-day comment period on the proposed requests.

IV. Procedures for Withdrawal of Requests

Registrants who choose to withdraw a request for product cancellation or use termination should submit the withdrawal in writing to the person listed under FOR FURTHER INFORMATION CONTACT. If the products(s) have been subject to a previous cancellation action, the effective date of cancellation and all other provisions of any earlier cancellation action are controlling.

V. Provisions for Disposition of Existing Stocks

Existing stocks are those stocks of registered pesticide products that are currently in the United States and that were packaged, labeled, and released for shipment prior to the effective date of the action. If the requests for voluntary cancellation and amendments to terminate uses are granted, the Agency intends to publish the cancellation order in the Federal Register.

In any order issued in response to these requests for cancellation of product registrations and for amendments to terminate uses, EPA proposes to include the following provisions for the treatment of any existing stocks of the products listed in Tables 1 and 2 of Unit II.

For voluntary product cancellations, registrants will be permitted to sell and distribute existing stocks of voluntarily canceled products for 1 year after the effective date of the cancellation, which will be the date of publication of the cancellation order in the Federal Register. Thereafter, registrants will be prohibited from selling or distributing the products identified in Table 1 of Unit II., except for export consistent with FIFRA section 17 (7 U.S.C. 136o) or for proper disposal.

Once EPA has approved the product labels reflecting the requested amendments to terminate uses, registrants will be permitted to sell or distribute the products under the previously approved labeling for a period of 18 months after the date of Federal Register publication of the cancellation order, unless other restrictions have been imposed. Thereafter, the registrants will be prohibited from selling or distributing the products whose labels include the terminated uses identified in Table 2 of Unit II., except for export consistent with FIFRA section 17 or for proper disposal.

Authority: 7 U.S.C. 136 et seq.

Dated: October 13, 2016.
Delores J. Barber,
Director, Information Technology and Resources Management Division, Office of Pesticide Programs.

[FR Doc. 2016-27865 Filed 11-17-16; 8:45 am]

BILLING CODE 6560-50-P